DEPARTMENT OF COMMERCE

International Trade Administration

[A-533-857]

Certain Oil Country Tubular Goods From India: Notice of Correction to Amended Final Determination and Amendment of Antidumping Duty Order

AGENCY: Enforcement and Compliance, International Trade Administration, Department of Commerce.

FOR FURTHER INFORMATION CONTACT: Andrew Huston, AD/CVD Operations, Office VII, Enforcement and Compliance, International Trade Administration, U.S. Department of Commerce, 1401 Constitution Avenue NW., Washington, DC 20230; telephone: (202) 482-4261.

SUPPLEMENTARY INFORMATION:

Background

In the Final Determination, the Department determined that GVN Fuels Limited, Maharashtra Seamless Limited, and Jindal Pipes Limited are affiliated, pursuant to section 771(33)(F) of the Tariff Act of 1930, as amended (the Act), and should be collapsed and treated as a single entity, pursuant to 19 CFR 351.401(f).¹

¹ See Final Determination of Sales at Less Than Fair Value and Final Negative Determination of Critical Circumstances: Certain Oil Country Tubular Good from India, 79 FR 41981, 41982 (July 18, 2014) (Final Determination), and accompanying issues and decision memorandum (IDM) at Comment 9.

On March 16, 2017, the United States Court of International Trade (CIT) entered final judgment sustaining the final results of remand redetermination pursuant to court order by the Department of Commerce (Department) pertaining to the less-than-fair-value investigation of certain oil country tubular goods (OCTG) from India.² On April 12, 2017, the Department published the Amended Final Determination on OCTG from India.³ On June 20, 2017, the Department published the Amended Order.⁴ In both the Amended Final Determination and Amended Order, the Department inadvertently omitted a statement to explain that, consistent with the Final Determination,⁵ GVN Fuels Limited, Maharashtra Seamless Limited, and Jindal Pipes Limited should be treated as a single entity.

² See United States Steel Corporation et al. v. United States, Slip Op. 17-28, Consolidated Court No. 14-00263 (CIT 2017).

³ See Certain Oil Country Tubular Goods from India: Notice of Court Decision Not in Harmony With Final Determination of Sales at Less Than Fair Value and Final Negative Determination of Critical Circumstances and Notice of Amended Final Determination, 82 FR 17631 (April 12, 2017) (Amended Final Determination).

⁴ See Certain Oil Country Tubular Goods from India: Amendment of Antidumping Duty Order, 82 FR 28045 (June 20, 2017) (Amended Order).

⁵ See Final Determination, 79 FR at, 41982, and accompanying issues and decision memorandum (IDM) at Comment 9.

Correction

We are correcting the Amended Final Determination and Amended Order to clarify that GVN Fuels Limited, Maharashtra Seamless Limited, and Jindal Pipes Limited should be treated as a single entity (collectively, GVN or the GVN single entity). The sections of the Amended Final Determination and Amended Order explaining the suspension of liquidation and listing the weighted-average antidumping duty margins and cash deposit rates should have appeared as provided below.

Correction to the Amended Final Determination

Amended Final Determination

Because there is now a final court decision, the Department is amending the Final Determination with respect to the GVN single entity (comprised of GVN Fuels Limited, Maharashtra Seamless Limited and Jindal Pipes Limited) ⁶ and Jindal SAW, Limited. The revised weighted-average dumping margins for the period July 1, 2012, through June 30, 2013, are as follows:

⁶ Final Determination Notice, 79 FR at 41982, and accompanying IDM at Comment 9.

Exporter or producer | Estimated weighted- average dumping margins (percent) | Cash deposit rate percent (percent) ⁷
GVN Fuels Limited, Maharashtra Seamless Limited and Jindal Pipes Limited (collectively, GVN or GVN single entity) | * 1.07 | 0.00
Jindal SAW, Limited | 11.24 | 0.00
All Others | 5.79 | 0.00
* (de minimis).

Correction to the Amended Order

⁷ Cash deposit rates are lower than estimated weighted-average dumping margins due to offsets for export subsidies.

Amendment of the Order on OCTG From India

The period to appeal the Court of International Trade's decision has passed, and a final and conclusive court decision has been reached in this case. Therefore, the Department is amending the antidumping duty order ⁸ on OCTG from India to exclude from the order subject merchandise produced and exported by the GVN single entity (comprised of GVN Fuels Limited, Maharashtra Seamless Limited and Jindal Pipes Limited) ⁹ because the revised weighted-average dumping margin for the GVN single entity is de minimis. This exclusion does not apply to merchandise produced by the GVN single entity and exported by any other company (outside the GVN single entity) or merchandise produced by any other company and exported by the GVN single entity. Resellers of merchandise produced by the GVN single entity, are also not entitled to this exclusion.

⁸ See Certain Oil Country Tubular Goods From India, the Republic of Korea, Taiwan, the Republic of Turkey, and the Socialist Republic of Vietnam: Antidumping Duty Orders; and Certain Oil Country Tubular Goods From the Socialist Republic of Vietnam: Amended Final Determination of Sales at Less Than Fair Value, 79 FR 53691 (September 10, 2014) (Orders).

⁹ Final Determination Notice, 79 FR at 41982, and accompanying IDM at Comment 9.

Continuation of Suspension of Liquidation, In Part

In accordance with section 735(c)(1)(B) of the Act, the Department has instructed CBP to continue to suspend liquidation on all relevant entries of OCTG from India.¹⁰ These instructions suspending liquidation will remain in effect until further notice. However, because the estimated weighted-average dumping margin for merchandise produced and exported by the GVN single entity is de minimis, the Department is directing U.S. Customs and Border Protection to liquidate all entries produced and exported by the GVN single entity currently suspended without regard to antidumping duties, and to not to suspend liquidation of entries of subject merchandise where the GVN single entity acted as both the producer and exporter. Entries of subject merchandise exported to the United States by any other producer and exporter combination involving the GVN single entity are not entitled to this exclusion from suspension of liquidation and are subject to the cash deposit rate for the all-others entity.

¹⁰ See Orders at 53692; see also Message No. 4262301, dated September 19, 2017, and Message No. 7130310, dated May 10, 2017.

This correction to the Amended Final Determination and Amended Order is issued and published in accordance with sections 516A(e)(1), 735(d), 736(a), and 777(i) of the Act of the Act.

Dated: July 24, 2017.
Gary Taverman,
Deputy Assistant Secretary for Antidumping and Countervailing Duty Operations, performing the non-exclusive functions and duties of the Assistant Secretary for Enforcement and Compliance.

[FR Doc. 2017-15943 Filed 7-27-17; 8:45 am]

BILLING CODE 3510-DS-P